DEPARTMENT OF VETERANS AFFAIRS

Advisory Committee Charter Renewals

AGENCY: Department of Veterans Affairs.

ACTION: Notice of advisory committee charter renewals.

FOR FURTHER INFORMATION CONTACT: Jeffrey Moragne, Committee Management Office, Department of Veterans Affairs, Advisory Committee Management Office (00AC), 810 Vermont Avenue NW., Washington, DC 20420; telephone (202) 266-4660; or email at Jeffrey.Moragne@va.gov. To view a copy of a VA Federal advisory committee charter, visit http://www.va.gov/advisory.

SUPPLEMENTARY INFORMATION: In accordance with the provisions of the Federal Advisory Committee ACT (FACA), 5 U.S.C. App. 2, and after consultation with the General Services Administration, the Secretary of Veterans Affairs has determined that the following Federal advisory committee is vital to the mission of the Department of Veterans Affairs (VA) and renewing its charter would be in the public interest. Consequently, the charter for the following Federal advisory committee is renewed for a two-year period, beginning on the dates listed below:

Committee name | Committee description | Charter renewed on
Department of Veterans Affairs Voluntary Service National Advisory Committee | Provides advice on how to coordinate and promote volunteer activities within VA health care facilities | January 19, 2017.

The Secretary has also renewed the charter for the following statutorily authorized Federal advisory committee for a two-year period, beginning on the date listed below:

Committee name | Committee description | Charter renewed on
Research Advisory Committee on Gulf War Veterans' Illnesses | Authorized by Public Law 105-368 § 104. Provides advice on proposed research studies, research plans, or research strategies relating to the health effects of military service in Southwest Asia during the Gulf War | January 27, 2017.

Dated: April 6, 2017.
Jelessa M. Burney,
Federal Advisory Committee Management Officer.

[FR Doc. 2017-07216 Filed 4-10-17; 8:45 am]

BILLING CODE 8320-01-P